DEPARTMENT OF TRANSPORTATION

Federal Railroad Administration

Petition for Waiver of Compliance

In accordance with part 211 of Title 49 of the Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Union Pacific Railroad Company

[Waiver Petition Docket Number FRA-2006-24840]

The Union Pacific Railroad Company (UP) is initiating a program to implement “Remote Authority” technology, designed to permit authorized users in the field to request, be granted, or release on-track authority. To facilitate the implementation of this technology, UP is requesting that FRA suspend compliance with certain rules in accordance with the provisions contained in 49 CFR 211.51.

The Remote Authority is a web-based application that will permit authorized users to request, be granted, or release Foul Time, Track Permit, Track & Time or Track Warrant authority to occupy a main track or other controlled track. The central office component consists of one or more Remote Authority servers that will receive requests from authorized users for on-track authority or requests to release on-track authority. If the user is authorized to request or release on-track authority, and the request meets established criteria, the request is forwarded to the Union Pacific's Computer Aided Dispatching system for further processing. Requests that do not meet established criteria are rejected at this point in the process, and the user is provided the opportunity to change or cancel the request.

Requests for on-track authority are received by the dispatching system and must meet established criteria to be eligible for issuance by the dispatching system without dispatcher intervention. If the established criteria are not satisfied, the request is placed in the appropriate authority request queue, and the train dispatcher is notified.

In this regard, the UP requests relief to permit the dispatching system to grant or release on-track authority in response to a valid request from an authorized user without intervention on the part of the train dispatcher or control operator who controls train movements on that track. The UP hereby seeks relief from 49 CFR 214.321(a)(1), which requires a track occupancy authority for working limits to be issued to the roadway worker in charge by the train dispatcher or control operator who controls train movements on that track.

Access to the Remote Authority application within the UP network requires the user to present valid credentials consisting of standard user identification and secret password. For off-network access, a Virtual Private Network (VPN) connection must be established by the employee before presenting valid credentials. Within the Remote Authority application, individual users are further restricted in the functions they may perform.

Interested parties are invited to participate in this proceeding by submitting written views, data, or comments. Although FRA does not anticipate scheduling a public hearing in connection with this proceeding, if any interested party desires an opportunity for oral comment, they should notify FRA in writing before the end of the comment period and specify the basis for their request.

All communications concerning this proceeding should identify the appropriate docket number (FRA-2006-24840) and may be submitted by any of the following methods:

• Web site: http://dms.dot.gov. Follow the instructions for submitting comments on the DOT electronic docket site.

• Fax: 202-493-2251.

• Mail: Docket Management Facility, U.S. Department of Transportation, 400 Seventh Street, SW., Nassif Building, Room PL-401, Washington, DC 20590-001.

• Hand Delivery: Docket Management Facility, Room PL-401 on the Plaza level of the Nassif Building, 400 Seventh Street, SW., Washington, DC, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78). The statement may also be found at http://dms.dot.gov.

Issued in Washington, DC, on July 20, 2006.
Grady C. Cothen, Jr.,
Deputy Associate Administrator for Safety Standards and Program Development.

[FR Doc. E6-11964 Filed 7-26-06; 8:45 am]

BILLING CODE 4910-06-P